DEPARTMENT OF TRANSPORTATION

National Highway Traffic Safety Administration

49 CFR Part 571

[Docket No. NHTSA-2013-0030]

RIN 2127-AL24

Federal Motor Vehicle Safety Standards; Tire Selection and Rims

AGENCY: National Highway Traffic Safety Administration (NHTSA), Department of Transportation.

ACTION: Notice of proposed rulemaking (NPRM).

SUMMARY: This document proposes to amend Federal Motor Vehicle Safety Standard (FMVSS) No. 110 to make it clear that special trailer (ST) tires are permitted to be installed on new trailers with a gross vehicle weight rating (GVWR) of 4,536 kg (10,000 lbs.) or less. It also proposes to exclude these trailers from a vehicle testing requirement that a tire must be retained on its rim when subjected to a sudden loss of tire pressure when brought to a controlled stop from 97 km/h (60 mph). After careful review, the agency believes that these two revisions are appropriate and would not result in any degradation of motor vehicle safety.

DATES: Submit comments on or before May 13, 2013.

ADDRESSES: You may submit comments electronically to the docket identified in the heading of this document by visiting the following Web site:

• Federal eRulemaking Portal: Go to http://www.regulations.gov. Follow the online instructions for submitting comments.

Alternatively, you can file comments using the following methods:

• Mail: Docket Management Facility: U.S. Department of Transportation, 1200 New Jersey Avenue SE., West Building Ground Floor, Room W12-140, Washington, DC 20590-0001

• Hand Delivery or Courier: West Building Ground Floor, Room W12-140, 1200 New Jersey Avenue SE., between 9 a.m. and 5 p.m. ET, Monday through Friday, except Federal holidays.

• Fax: (202) 493-2251

Regardless of how you submit your comments, you should mention the docket number identified in the heading of this document.

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov. Follow the online instructions for accessing the dockets.

FOR FURTHER INFORMATION CONTACT: For technical issues, you may contact George Soodoo, Office of Crash Avoidance Standards, by telephone at (202) 366-4931, and by fax at (202) 366-7002. For legal issues, you may contact David Jasinski, Office of the Chief Counsel, by telephone at (202) 366-2992, and by fax at (202) 366-3820. You may send mail to both of these officials at the National Highway Traffic Safety Administration, 1200 New Jersey Avenue SE., Washington, DC 20590.

SUPPLEMENTARY INFORMATION:

I. Background

On June 26, 2003, the agency published a final rule amending several Federal Motor Vehicle Safety Standards (FMVSSs) related to tires and rims.¹ That rulemaking was completed as part of a comprehensive upgrade of existing safety standards and the establishment of new safety standards to improve tire safety, as required by the Transportation Recall Enhancement, Accountability, and Documentation (TREAD) Act of 2000. That final rule included extensive revisions to the tire standards and to the rim and labeling requirements for motor vehicles.

¹ 68 FR 38116.

That final rule expanded the applicability of FMVSS No. 110 to include all motor vehicles with a gross vehicle weight rating (GVWR) of 4,536 kg (10,000 pounds) or less, except for motorcycles. Prior to the enactment of the TREAD Act, FMVSS No. 110 only applied to passenger cars and to non-pneumatic spare tire assemblies for use on passenger cars. In an effort to coordinate the upgraded tire standard, intended to apply to all vehicles with a GVWR of 4,536 kg (10,000 pounds) or less with the standards used on tires for vehicles with a GVWR of 4,536 kg (10,000 pounds) or less, the language in FMVSS No. 110 was amended to require the use of tires meeting the new FMVSS No. 139, New pneumatic radial tires for light vehicles. The only exception provided in FMVSS No. 110 was for the use of spare tire assemblies with pneumatic spare tires meeting the requirements of FMVSS No. 109 or non-pneumatic spare tire assemblies meeting the requirements of FMVSS No. 129.

With the expansion of FMVSS No. 110 to include all motor vehicles with a GVWR of 4,536 kg (10,000 pounds) or less, the performance tests and criteria within the standard became applicable to all light vehicles, including light trucks, multipurpose passenger vehicles, buses, and trailers that had previously been subject to the requirements of FMVSS No. 120. Among the performance requirements in FMVSS No. 110 is a rim retention requirement compliance with which is assessed using a rapid tire deflation test. This requirement was not previously included in FMVSS No. 120 and, therefore, was not applicable to light trucks, multipurpose passenger vehicles, buses, and trailers. The effective date for these requirements was September 1, 2007, which provided approximately four years of lead time from publication of the final rule.²

² See 71 FR 877 (Jan. 6, 2006).

The agency has been made aware, through communications from the Recreational Vehicle Industry Association (RVIA), of two concerns the trailer manufacturing industry has with FMVSS No. 110. First, RVIA and its members believe, from a literal reading of S4.1 of FMVSS No. 110, that special trailer (ST) tires and tires with rim diameter codes of 12 or below cannot be equipped on new trailers that are under 4,536 kg (10,000 pounds) or less because that section only allows for FMVSS No. 139-compliant tires to be equipped on trailers. Second, RVIA and its members questioned the need for the rim retention requirement for trailers in S4.4.1(b) and whether the dynamic rapid tire deflation test specified in that section could be conducted on trailers. Although no petition for rulemaking has been received related to these issues, the agency has, on its own initiative, reviewed these concerns and is proposing amendments to FMVSS No. 110 to respond to them. The two issues are addressed separately in more detail below.

II. Use of ST Tires on Trailers With a GVWR of 4,536 kg (10,000 Pounds) or Less

A literal reading of S4.1 of FMVSS No. 110 suggests that all light vehicles (those with GVWR or 4,536 kg (10,000 pounds) or less) would be required to be equipped with FMVSS No 139-compliant tires, with an exception only for T-type or non-pneumatic spare tire assemblies on passenger cars. Prior to the 1997 effective date of the amendments to FMVSS No. 110, trailers were subject to FMVSS No. 120, which then allowed for trailers to be equipped with ST tires and tires with rim diameter codes of 12 or less that comply with FMVSS No. 109.³

³ FMVSS No. 120 continues to allow trailers with a GVWR of greater than 4,536 kg (10,000 pounds) to be equipped with ST tires and tires with a rim diameter code of 12 or less.

NHTSA has reexamined S4.1 and has tentatively concluded that an amendment is appropriate to clarify what appears to be an unnecessary and unintentional restriction on the types of tires that can be used on light trailers. A review of the rulemaking record supporting the June 2003 final rule does not reveal intent to restrict the types of tires that can be used on trailers. Rather, it appears that, in rewriting FMVSS No. 110 to apply to all light vehicles and require that light vehicles be equipped with FMVSS No. 139-compliant tires, the agency inadvertently omitted language that would allow trailers to continue to be equipped with FMVSS No. 109-compliant ST tires or 12 or lower rim diameter code tires.

Thus, NHTSA proposes to revise S4.1 to require that, subject to enumerated exceptions, all light vehicles be equipped with FMVSS No. 139-compliant tires. For passenger cars, T-type temporary spare tire assemblies and non-pneumatic spare tire assemblies that comply with FMVSS No. 109 and FMVSS No. 129, respectively, would continue to be allowed. Additionally, the agency is proposing to add a new exception allowing trailers to be equipped with ST tires or tires with a rim diameter code of 12 or below that comply with FMVSS No. 109.

We believe that expressly allowing the expanded use of trailer tires consistent with these proposed amendments will not result in degradation of safety. The agency has reviewed NHTSA crash databases such as the Fatality Analysis Reporting System and the National Automotive Sampling System General Estimates System. However, those databases do not contain sufficient detail with respect to the coding of crashing to identify relevant crashes.

The agency has also reviewed consumer complaints made to NHTSA's Office of Defects Investigations, based on submissions of Vehicle Owner Questionnaires (VOQs) to identify safety problems related to tires. A search of that database in June 2012 revealed 963 complaints containing both the words “tire” and “trailer.” A review of the narrative of each complaint revealed that 942 of the VOQs reported tire issues on the towing vehicle, 10 VOQs involved tire issues on the trailer, and 11 VOQs were not sufficiently specific to determine if the tire issue was on the towing or towed vehicle. Nothing in the VOQ data indicated any increased safety risk associated with the use of ST tires or tires with rim diameter codes of 12 or less compared to any other type of tire. Furthermore, ST tires and tires with rim diameter codes 12 or less were expressly allowed to be used on light trailers prior to 2007 and the agency did not note any risk related to those tires in the rulemaking proceeding leading to the June 2003 final rule.

The agency seeks comment on this proposal. The agency also seeks comment on the tentative conclusion that adopting this proposed amendment would not result in any degradation of safety.

III. Rim Retention Requirement for Trailers

The June 2003 final rule extended the applicability of FMVSS No. 110 to all light vehicles except motorcycles. Prior to the 2007 effective date of that rule, the rim retention requirement was applicable only to passenger cars. With respect to this requirement, the agency stated the following in the June 2003 final rule:

The agency has also decided to extend S4.4.1(b) of FMVSS No. 10 to light trucks and vans for the first time. S4.4.1(b) requires that each rim retain a deflated tire in the event of a rapid loss of inflation pressure from a vehicle speed of 97 km/h until the vehicle is stopped with a controlled braking application. No commenter responded to this issue.⁴

⁴ 68 FR 38142.

Although the agency only expressly stated an intent to extend the applicability of the rim retention requirement to light trucks and vans, there was no limitation in the regulatory text that excluded trailers or any other vehicle type subject to FMVSS No. 110 from this requirement. The extension of the applicability of this requirement to trailers resulted in the implementation of the first on-road compliance test that NHTSA could conduct on light trailers.

The rapid deflation test NHTSA conducts to determine compliance with the rim retention requirement provides that the vehicle travel in a straight line at a speed of 97 km/h (60 mph). A trailer, by its nature, is not self-propelled. Thus, to conduct the test, NHTSA would need to attach the trailer to a powered vehicle. However, neither the text of S4.4.1(b), nor NHTSA's compliance test procedure contemplate the use of a towing vehicle. Without such specificity, light trailer manufacturers cannot know how NHTSA would perform compliance testing of the rim retention requirement on trailers. Consequently, light trailer manufacturers are responsible for certifying that their trailers comply with the rim retention requirement in any towing-towed vehicle configuration, which creates testing issues not considered by the agency.

To determine if a safety problem exists, the agency investigated its crash data. As discussed in the prior section, NHTSA's crash databases were not sufficiently detailed to identify relevant crashes.

However, the agency has reviewed the 10 VOQs identified in the prior section related to tire issues on a trailer. One complaint involved a truck towing another truck. This case was not considered relevant because the towed vehicle was not a trailer. Nine cases reported tire failure (either blowout or tread separation) of one or more trailer tires. Four cases resulted in trailer rollover, but none reported rollover of the towing vehicle. Seven cases reported property damage to the trailer or the towing vehicle. In one case, another vehicle was struck by separated trailer tire tread. There were no reported injuries or fatalities in any of these nine cases, and it does not appear that any of these cases would have been addressed by the rim retention requirement.

For example, one case involving trailer rollover reported that the right trailer tire rolled off the bead on a curved section of roadway. The owner of the unspecified towing vehicle stated that the trailer was rental equipment. The police accident report indicated that the tires were underrated for the vehicle at the time of the crash (the trailer GVWR was 3,825 pounds and the two tires had a combined load carrying capacity of 3,250 pounds). However, there was insufficient information to confirm that the tires could not carry the load on the axle because there was no information on how much weight was loaded on the trailer's axle and whether the towing vehicle was carrying any of the trailer's weight.

Based on the foregoing information, the agency could not identify a current safety problem related to a trailer rim's ability to retain a tire in the event of rapid deflation. Over a 15-year period of consumer complaints, we found only nine complaints related to trailer tires, a rate of less than one complaint per year, and few, if any, of the complaints appear to be related to the rim retention requirement. Thus, we tentatively conclude that there is no continued safety need justifying the requirement that trailers comply with the rim retention requirement in S4.4.1(b) of FMVSS No. 110. We do not believe that excluding trailers from this requirement would have any measurable effect on the safety of light trailers.

We welcome comments on our tentative conclusion that there remains no continued safety need for trailers to comply with the rim retention requirement in S4.4.1(b) of FMVSS No. 110.⁵

⁵ We are not proposing to exclude trailers from the requirement in S4.4.1(a) that rims be constructed to the dimensions of a rim that is listed by the manufacturer of the tires as suitable for use with those tires, in accordance with S4 of § 571.139. Although ST tires and tires with rim diameter codes of 12 or less are subject to the requirements of FMVSS No. 109 and not FMVSS No. 139, we are not proposing to refer to FMVSS No. 109 for rim matching requirements for ST and 12 or less rim diameter tires. On January 17, 2013, the agency published an amendment to FMVSS No. 109 that, among other things, updated the listing of industry tire and rim standards in FMVSS No. 109 to match those specified in S4 of FMVSS No. 139. See 78 FR 3843.

IV. Public Participation

How do I prepare and submit comments?

Your comments must be written and in English. To ensure that your comments are correctly filed in the Docket, please include the docket number of this document in your comments.

Your comments must not be more than 15 pages long (49 CFR 553.21). We established this limit to encourage you to write your primary comments in a concise fashion. However, you may attach necessary additional documents to your comments. There is no limit on the length of the attachments.

Please submit your comments electronically to the docket following the steps outlined under ADDRESSES. You may also submit two copies of your comments, including the attachments, by mail to Docket Management at the beginning of this document, under ADDRESSES.

How can I be sure that my comments were received?

If you wish to be notified upon receipt of your mailed comments, enclose a self-addressed, stamped postcard in the envelope containing your comments. Upon receiving your comments, Docket Management will return the postcard by mail.

How do I submit confidential business information?

If you wish to submit any information under a claim of confidentiality, you should submit the following to the NHTSA Office of Chief Counsel (NCC-110), 1200 New Jersey Avenue SE., Washington, DC 20590: (1) A complete copy of the submission; (2) a redacted copy of the submission with the confidential information removed; and (3) either a second complete copy or those portions of the submission containing the material for which confidential treatment is claimed and any additional information that you deem important to the Chief Counsel's consideration of your confidentiality claim. A request for confidential treatment that complies with 49 CFR part 512 must accompany the complete submission provided to the Chief Counsel. For further information, submitters who plan to request confidential treatment for any portion of their submissions are advised to review 49 CFR part 512, particularly those sections relating to document submission requirements. Failure to adhere to the requirements of part 512 may result in the release of confidential information to the public docket. In addition, you should submit two copies from which you have deleted the claimed confidential business information, to Docket Management at the address given at the beginning of this document under ADDRESSES.

Will the agency consider late comments?

We will consider all comments received before the close of business on the comment closing date indicated at the beginning of this notice under DATES. In accordance with our policies, to the extent possible, we will also consider comments received after the specified comment closing date. If we receive a comment too late for us to consider in developing the proposed rule, we will consider that comment as an informal suggestion for future rulemaking action.

How can I read the comments submitted by other people?

You may read the comments received on the Internet. To read the comments on the Internet, go to http://www.regulations.gov and follow the on-line instructions provided.

You may download the comments. The comments are imaged documents, in either TIFF or PDF format. Please note that even after the comment closing date, we will continue to file relevant information in the Docket as it becomes available. Further, some people may submit late comments. Accordingly, we recommend that you periodically search the Docket for new material.

You may also see the comments at the address and times given near the beginning of this document under ADDRESSES.

V. Rulemaking Analyses and Notices

A. Executive Order 12866, Executive Order 13563, and DOT Regulatory Policies and Procedures

NHTSA has considered the impact of this rulemaking action under Executive Order 12866, Executive Order 13563, and the Department of Transportation's regulatory policies and procedures. This rulemaking is not considered significant and was not reviewed by the Office of Management and Budget under E.O. 12866, “Regulatory Planning and Review.” The rulemaking action has also been determined not to be significant under the Department's regulatory policies and procedures.

This NPRM would not impose costs upon manufacturers. It removes the rim retention requirement for light trailers. This NPRM might result in cost savings to manufacturers associated with the certification of compliance with the rim retention requirement. However, we are unable to quantify any such cost savings. This NPRM would not have any impact on safety.

B. Regulatory Flexibility Act

Pursuant to the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)). No regulatory flexibility analysis is required if the head of an agency certifies the rule will not have a significant economic impact on a substantial number of small entities. SBREFA amended the Regulatory Flexibility Act to require Federal agencies to provide a statement of the factual basis for certifying that a rule will not have a significant economic impact on a substantial number of small entities.

NHTSA has considered the effects of this NPRM under the Regulatory Flexibility Act. I certify that this NPRM will not have a significant economic impact on a substantial number of small entities. This proposed rule would directly impact manufacturers of trailers with a GVWR of 4,536 kg (10,000 pounds) or less. Although we believe many manufacturers affected by this proposal are considered small businesses, we do not believe this NPRM will have a significant economic impact on those manufacturers. This NPRM would not impose any costs upon manufacturers and may result in cost savings. This NPRM would relieve light trailer manufacturers of the burden, and the associated costs, associated with the rim retention requirement.

C. Executive Order 13132 (Federalism)

NHTSA has examined today's final rule pursuant to Executive Order 13132 (64 FR 43255, August 10, 1999) and concluded that no additional consultation with States, local governments or their representatives is mandated beyond the rulemaking process. The agency has concluded that the rulemaking would not have sufficient federalism implications to warrant consultation with State and local officials or the preparation of a federalism summary impact statement. The final rule would not have “substantial direct effects on the States, on the relationship between the national government and the States, or on the distribution of power and responsibilities among the various levels of government.”

NHTSA rules can preempt in two ways. First, the National Traffic and Motor Vehicle Safety Act contains an express preemption provision: When a motor vehicle safety standard is in effect under this chapter, a State or a political subdivision of a State may prescribe or continue in effect a standard applicable to the same aspect of performance of a motor vehicle or motor vehicle equipment only if the standard is identical to the standard prescribed under this chapter. 49 U.S.C. 30103(b)(1). It is this statutory command by Congress that preempts any non-identical State legislative and administrative law addressing the same aspect of performance.

The express preemption provision described above is subject to a savings clause under which “[c]ompliance with a motor vehicle safety standard prescribed under this chapter does not exempt a person from liability at common law.” 49 U.S.C. 30103(e). Pursuant to this provision, State common law tort causes of action against motor vehicle manufacturers that might otherwise be preempted by the express preemption provision are generally preserved. However, the Supreme Court has recognized the possibility, in some instances, of implied preemption of such State common law tort causes of action by virtue of NHTSA's rules, even if not expressly preempted. This second way that NHTSA rules can preempt is dependent upon there being an actual conflict between an FMVSS and the higher standard that would effectively be imposed on motor vehicle manufacturers if someone obtained a State common law tort judgment against the manufacturer, notwithstanding the manufacturer's compliance with the NHTSA standard. Because most NHTSA standards established by an FMVSS are minimum standards, a State common law tort cause of action that seeks to impose a higher standard on motor vehicle manufacturers will generally not be preempted. However, if and when such a conflict does exist—for example, when the standard at issue is both a minimum and a maximum standard—the State common law tort cause of action is impliedly preempted. See Geier v. American Honda Motor Co., 529 U.S. 861 (2000).

Pursuant to Executive Order 13132 and 12988, NHTSA has considered whether this rule could or should preempt State common law causes of action. The agency's ability to announce its conclusion regarding the preemptive effect of one of its rules reduces the likelihood that preemption will be an issue in any subsequent tort litigation.

To this end, the agency has examined the nature (e.g., the language and structure of the regulatory text) and objectives of today's rule and finds that this rule, like many NHTSA rules, prescribes only a minimum safety standard. As such, NHTSA does not intend that this rule preempt state tort law that would effectively impose a higher standard on motor vehicle manufacturers than that established by today's rule. Establishment of a higher standard by means of State tort law would not conflict with the minimum standard announced here. Without any conflict, there could not be any implied preemption of a State common law tort cause of action.

D. Executive Order 12988 (Civil Justice Reform)

With respect to the review of the promulgation of a new regulation, section 3(b) of Executive Order 12988, “Civil Justice Reform” (61 FR 4729; Feb. 7, 1996), requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) specifies whether administrative proceedings are to be required before parties file suit in court; (6) adequately defines key terms; and (7) addresses other important issues affecting clarity and general draftsmanship under any guidelines issued by the Attorney General. This document is consistent with that requirement.

Pursuant to this Order, NHTSA notes as follows. The issue of preemption is discussed above. NHTSA notes further that there is no requirement that individuals submit a petition for reconsideration or pursue other administrative proceedings before they may file suit in court.

E. Protection of Children From Environmental Health and Safety Risks

Executive Order 13045, “Protection of Children from Environmental Health and Safety Risks” (62 FR 19855, April 23, 1997), applies to any rule that: (1) Is determined to be “economically significant” as defined under Executive Order 12866, and (2) concerns an environmental, health, or safety risk that the agency has reason to believe may have a disproportionate effect on children. If the regulatory action meets both criteria, the agency must evaluate the environmental health or safety effects of the planned rule on children, and explain why the planned regulation is preferable to other potentially effective and reasonably feasible alternatives considered by the agency.

This notice is part of a rulemaking that is not expected to have a disproportionate health or safety impact on children. Consequently, no further analysis is required under Executive Order 13045.

F. Paperwork Reduction Act

Under the Paperwork Reduction Act of 1995 (PRA), a person is not required to respond to a collection of information by a Federal agency unless the collection displays a valid OMB control number. There is not any information collection requirement associated with this NPRM.

G. National Technology Transfer and Advancement Act

Section 12(d) of the National Technology Transfer and Advancement Act (NTTAA) requires NHTSA to evaluate and use existing voluntary consensus standards in its regulatory activities unless doing so would be inconsistent with applicable law (e.g., the statutory provisions regarding NHTSA's vehicle safety authority) or otherwise impractical. Voluntary consensus standards are technical standards developed or adopted by voluntary consensus standards bodies. Technical standards are defined by the NTTAA as “performance-based or design-specific technical specification and related management systems practices.” They pertain to “products and processes, such as size, strength, or technical performance of a product, process or material.”

Examples of organizations generally regarded as voluntary consensus standards bodies include ASTM International, the Society of Automotive Engineers (SAE), and the American National Standards Institute (ANSI). If NHTSA does not use available and potentially applicable voluntary consensus standards, we are required by the Act to provide Congress, through OMB, an explanation of the reasons for not using such standards.

There are no voluntary consensus standards developed by voluntary consensus standards bodies pertaining to this NPRM.

H. Unfunded Mandates Reform Act

Section 202 of the Unfunded Mandates Reform Act of 1995 (UMRA) requires federal agencies to prepare a written assessment of the costs, benefits, and other effects of proposed or final rules that include a Federal mandate likely to result in the expenditure by State, local, or tribal governments, in the aggregate, or by the private sector, of more than $100 million annually (adjusted for inflation with base year of 1995). Before promulgating a NHTSA rule for which a written statement is needed, section 205 of the UMRA generally requires the agency to identify and consider a reasonable number of regulatory alternatives and adopt the least costly, most cost-effective, or least burdensome alternative that achieves the objectives of the rule. The provisions of section 205 do not apply when they are inconsistent with applicable law. Moreover, section 205 allows the agency to adopt an alternative other than the least costly, most cost-effective, or least burdensome alternative if the agency publishes with the final rule an explanation of why that alternative was not adopted.

This NPRM would not result in any expenditure by State, local, or tribal governments or the private sector of more than $100 million, adjusted for inflation.

I. National Environmental Policy Act

NHTSA has analyzed this rulemaking action for the purposes of the National Environmental Policy Act. The agency has determined that implementation of this action would not have any significant impact on the quality of the human environment.

J. Plain Language

Executive Order 12866 requires each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

K. Regulatory Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

L. Privacy Act

Anyone is able to search the electronic form of all comments received into any of our dockets by the name of the individual submitting the comment (or signing the comment, if submitted on behalf of an association, business, labor union, etc.). You may review DOT's complete Privacy Act Statement in the Federal Register published on April 11, 2000 (65 FR 19477-78).

List of Subjects in 49 CFR Parts 571

Imports, Motor vehicle safety, Reporting and recordkeeping requirements, Tires.

In consideration of the foregoing, NHTSA proposes to amend 49 CFR Part 571 as follows:

PART 571—FEDERAL MOTOR VEHICLE SAFETY STANDARDS

1. The authority citation for part 571 of Title 49 continues to read as follows:

Authority: 49 U.S.C. 322, 30111, 30115, 30117, and 30166; delegation of authority at 49 CFR 1.95.

2. Amend section 571.110 by revising S4.1 and S4.4.1(b) to read as follows:

§ 571.110 Tire selection and rims and motor home/recreation vehicle trailer load carrying capacity information for motor vehicles with a GVWR of 4,536 kilograms (10,000 pounds) or less.

* * * * *

S4.1 General (a) Subject to the exceptions set forth in S4.1(b), vehicles shall be equipped with tires that meet the requirements of § 571.139, New pneumatic tires for light vehicles.

(b) Notwithstanding the requirement in S4.1(a),

(1) Passenger cars may be equipped with pneumatic T-type temporary spare tire assemblies that meet the requirements of § 571.109, New pneumatic and certain specialty tires, or non-pneumatic spare tire assemblies that meet the requirements of § 571.129, New non-pneumatic tires for passenger cars, and S6 and S8 of this standard. Passenger cars equipped with a non-pneumatic spare tire assembly shall meet the requirements of S4.3(e), S5, and S7 of this standard.

(2) Trailers may be equipped with ST tires or tires with a rim diameter code of 12 or below that meet the requirements of § 571.109, New pneumatic and certain specialty tires.

* * * * *

S4.4.1 * * *

(b) Except for trailers, in the event of rapid loss of inflation pressure with the vehicle traveling in a straight line at a speed of 97 kilometers per hour, retain the deflated tire until the vehicle can be stopped with a controlled braking application

* * * * *

Issued on: March 4, 2013.
Christopher J. Bonanti,
Associate Administrator for Rulemaking.

[FR Doc. 2013-05761 Filed 3-12-13; 8:45 am]

BILLING CODE 4910-59-P